DEPARTMENT OF STATE

Office of the Secretary

Delegation of Authority No. 247-1; Delegation of Authorities From the Secretary of State to the Chief Information Officer

By virtue of the authority vested in me as Secretary of State, including the authority of Section 1 of the State Department Basic Authorities Act, as amended (22 U.S.C. 2651a), I hereby delegate to the Chief Information Officer the authority to perform all functions that are, or in the future may be, required by the Federal Information Security Management Act of 2002 (44 U.S.C. 3541-3549) or any other statute, regulation, executive order, or other provision of law to be delegated by the head of agency to the agency's Chief Information Officer.

Any reference in this delegation of authority to any provision of law shall be deemed to be a reference to such provision of law as amended from time to time.

The Chief Information Officer may, to the extent consistent with law, redelegate such functions and authorize their successive redelegation, in consultation with the Under Secretary of Management.

Delegation of Authority No. 225 (Delegation of Paperwork Reduction Act Responsibilities) dated September 11, 1998, and Delegation of Authority No. 226 (Delegation of Responsibilities for the Collection of Information from the Public Under the Paperwork Reduction Act) dated October 13, 1998, shall continue in full force and effect until modified, amended, or terminated by appropriate authority.

Delegation of Authority No. 247 (Delegation of Responsibilities Under the Government Information Security Reform Act) is hereby revoked.

Except to the extent inconsistent with this delegation of authority, all other delegations of authority and all determinations, authorizations, regulations, rulings, certificates, orders, directives, contracts, agreements, and other actions made, issued or entered into with respect to any function affected by this delegation of authority and not revoked, superseded, or otherwise made inapplicable before the effective date of this delegation of authority, shall continue in full force and effect until modified, amended, or terminated by appropriate authority.

The exercise by the Chief Information Officer of the authorities prescribed herein, prior to the effective date of this delegation of authority, is hereby confirmed and ratified.

This delegation of authority shall be published in the Federal Register.

Dated: August 14, 2004.
Colin L. Powell,
Secretary of State, Department of State.

[FR Doc. 04-20337 Filed 9-7-04; 8:45 am]

BILLING CODE 4710-10-P